DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, July 23, 2002, 8 a.m. to July 24, 2002, 5 p.m., Double Tree Hotel, 1750 Rockville Pike, Rockville, MD, 20852 which was published in the Federal Register on June 26, 2002, V. 67, 123, 43134.

The meeting will be held 07/23-24/2002 at the Double Tree Hotel, for RFA AA02-004, New Approaches to Developing Pharmacotherapy for Alcoholism not RFA AA02-006. The meeting is closed to the public.

Dated: July 16, 2002.
LaVerne Y. Stringfield,
Director, Office of Federal Advisory Committee Policy.

[FR Doc. 02-18505 Filed 7-22-02; 8:45 am]

BILLING CODE 4140-01-M